DEPARTMENT OF TRANSPORTATION

Federal Aviation Administration

14 CFR Part 39

[Docket No. FAA-2024-2136; Project Identifier AD-2023-00296-T; Amendment 39-22930; AD 2025-01-06]

RIN 2120-AA64

Airworthiness Directives; The Boeing Company Airplanes

AGENCY: Federal Aviation Administration (FAA), DOT.

ACTION: Final rule.

SUMMARY: The FAA is superseding Airworthiness Directive (AD) 2019-14-13, which applies to all The Boeing Company Model 767-200, -300, -300F, and -400ER series airplanes. AD 2019-14-13 required identifying the part number, and the serial number if applicable, of the Captain's and First Officer's seats, and performing applicable on-condition actions for affected seats. AD 2019-14-13 also required a one-time detailed inspection and repetitive checks of the horizontal movement system (HMS) of the Captain's and First Officer's seats, and applicable on-condition actions. AD 2019-14-13 also provided an optional terminating action for the repetitive actions for certain seats. This AD was prompted by reports of uncommanded fore and aft movement of the Captain's and First Officer's seats. This AD retains the actions in AD 2019-14-13 and adds an inspection of previously omitted part numbers. The FAA is issuing this AD to address the unsafe condition on these products.

DATES: This AD is effective March 11, 2025.

The Director of the Federal Register approved the incorporation by reference of certain publications listed in this AD as of March 11, 2025.

ADDRESSES:

AD Docket: You may examine the AD docket at regulations.gov under Docket No. FAA-2024-2136; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

Material Incorporated by Reference:

• For Boeing material identified in this AD, contact Boeing Commercial Airplanes, Attention: Contractual & Data Services (C&DS), 2600 Westminster Boulevard, MC 110-SK57, Seal Beach, CA 90740-5600; phone 562-797-1717; website myboeingfleet.com.

• You may view this material at the FAA, Airworthiness Products Section, Operational Safety Branch, 2200 South 216th St., Des Moines, WA. For information on the availability of this material at the FAA, call 206-231-3195. It is also available at regulations.gov under Docket No. FAA-2024-2136.

FOR FURTHER INFORMATION CONTACT: Courtney Tuck, Aviation Safety Engineer, FAA, 2200 South 216th Street, Des Moines, WA 98198; phone 206-231-3986; email Courtney.K.Tuck@faa.gov.

SUPPLEMENTARY INFORMATION:

Background

The FAA issued a notice of proposed rulemaking (NPRM) to amend 14 CFR part 39 to supersede AD 2019-14-13, Amendment 39-19691 (84 FR 38855, August 8, 2019) (AD 2019-14-13). AD 2019-14-13 applied to all The Boeing Company Model 767-200, -300, -300F, and -400ER series airplanes. The NPRM published in the Federal Register on September 9, 2024 (89 FR 73003). The NPRM was prompted by reports of uncommanded fore and aft movement of the Captain's and First Officer's seats. In the NPRM, the FAA proposed to continue to require the actions in AD 2019-14-13 and add an inspection of previously omitted part numbers. The FAA is issuing this AD to address uncommanded fore and aft movement of the Captain's and First Officer's seats. An uncommanded fore or aft seat movement during a critical part of a flight, such as takeoff or landing, could cause a flight control obstruction or unintended flight control input, which could result in the loss of the ability to control the airplane.

Discussion of Final Airworthiness Directive

Comments

The FAA received comments from Air Line Pilots Association, International, Boeing, United Airlines, United Parcel Service Co., and three individuals, who supported the NPRM without change.

The FAA received additional comments from Aviation Partners Boeing, Delta Airlines, and an individual. The following presents the comments received on the NPRM and the FAA's response to each comment.

Request for Phased Compliance Period for Smaller Carriers

A individual commenter requested that the FAA provide a phased compliance period for smaller carriers and operators to allow them to plan inspections, repairs, and parts replacement without causing significant operational disruptions, especially for smaller fleets that may lack immediate access to specialized parts and labor.

The FAA disagrees to provide a phased compliance period for smaller carriers. The compliance time set is standard across the entire affected fleet to ensure an adequate level of safety and is not dependent on the fleet size of each operator. The FAA has not changed this AD as a result of this comment.

Request To Enhance Acceptable Methods of Compliance

An individual commenter requested for the FAA to enhance the clarity of acceptable methods of compliance for operators using alternative maintenance programs. The commenter would like more concrete examples of compliance pathways, such as best practices for tracking seat conditions and recurring HMS inspections, to foster consistency across operators. The commenter added that it would also be helpful to publish detailed service guidelines on aligning seat part replacements with standard maintenance cycles to prevent unnecessary downtime.

The FAA disagrees. Best practices and service guidelines to resolve the unsafe condition identified in an AD are typically provided by service information generated by the design approval holder. Operators may request approval of alternative methods of compliance with the requirements of an AD provided the alternative methods address the unsafe condition and provide an adequate level of safety. Guidance on requirements and best practices can be found in FAA Orders and Manuals. The FAA has not changed this AD as a result of this comment.

Effect of Winglets on Accomplishment of the Proposed Actions

Aviation Partners Boeing stated that the installation of winglets per Supplemental Type Certificate (STC) ST01920SE does not affect compliance with the proposed actions.

The FAA agrees with the commenter that STC ST01920SE does not affect the accomplishment of the manufacturer's service instructions, as noted in paragraph (c)(2) of the proposed AD. Therefore, the installation of STC ST01920SE does not affect the ability to accomplish the actions required by this AD. The FAA has not changed this AD in this regard.

Request To Revise Applicability

The applicability in paragraph (c)(1) of the proposed AD included all Model 767-200, -300, -300F, and -400ER series airplanes. Delta Airlines noted that Boeing Special Attention Service Bulletins 767-25-0539 and 767-25-0549, both Revision 2, dated January 27, 2023, refer only to Ipeco Captain's and First Officer's seats. Delta requested a revision to the applicability of the proposed AD to be more specific by limiting the applicability to those airplanes equipped with powered Ipeco Captain's and First Officer's seat part number series 3A090 and 3A258 as specified in the “Compliance,” paragraph of Boeing Special Attention Service Bulletin 767-25-0539, Revision 2, dated January 27, 2023.

The FAA disagrees to revise paragraph (c) as suggested by Delta Airlines. All airplanes are included because it is required per paragraph (g) to inspect the part number, and serial number as applicable, of the Captain's and First Officer's seats to determine if the on-condition actions are applicable. The FAA has not changed this AD as a result of this comment.

Change to Proposed AD

In the proposed AD, the first two column headings in figure 1 to paragraph (j) were “Installation per Boeing Special Attention Service Bulletin” and “And installation per IPECO Service Bulletin.” Since these documents are provided for guidance to the operators on how to comply with a safety issue, those column headings have been changed in this AD to “Actions done in accordance with Boeing Special Attention Service Bulletin” and “Actions done in accordance with Ipeco Service Bulletin,” respectively.

Conclusion

The FAA reviewed the relevant data, considered any comments received, and determined that air safety requires adopting this AD as proposed. Accordingly, the FAA is issuing this AD to address the unsafe condition on these products. Except for minor editorial changes, and any other changes described previously, this AD is adopted as proposed in the NPRM. None of the changes will increase the economic burden on any operator.

Material Incorporated by Reference Under 1 CFR Part 51

The FAA reviewed Boeing Special Attention Service Bulletin 767-25-0539, Revision 2, dated January 27, 2023. This material specifies procedures for identification of the part number, and the serial number if applicable, of the Captain's and First Officer's seats, and applicable on-condition actions. On-condition actions include an inspection of each seat's fore and aft and vertical manual control levers for looseness, installation of serviceable seats, and a seat operational test after any cable adjustment. This material also adds Ipeco seat part numbers 3A258-0007-01-1Z, 3A258-0008-01-1Z, 3A258-0041-01-1Z, 3A258-0042-01-1Z, and 3A090-0078-04-1. This material also adds Ipeco seat part numbers 3A090-0078-03-1 and 3A090-0078-05-1, that were previously removed in Boeing Special Attention Service Bulletin 767-25-0539, Revision 1, dated January 9, 2014.

The FAA also reviewed Boeing Special Attention Service Bulletin 767-25-0549, Revision 2, dated January 27, 2023. This material specifies procedures for a detailed inspection and repetitive checks of the HMS (including for any Artus part and amendment numbers of the horizontal actuator of the HMS) for the Captain's and First Officer's seats for findings (e.g., evidence of cracks, scores, corrosion, dents, deformation, or visible wear; and incorrectly assembled microswitch assemblies, actuators, and limit switches), and applicable on-condition actions. The on-condition actions include clearing the seat tracks of foreign object debris (FOD), overhauling the HMS, and replacing the horizontal actuator. The material also describes procedures for an optional terminating action for the repetitive checks by installing a serviceable Captain's or First Officer's seat. The service information adds Ipeco seat part number 3A090-0078-03-1, 3A090-0078-04-1, and 3A090-0078-05-1.

This material is reasonably available because the interested parties have access to it through their normal course of business or by the means identified in the ADDRESSES section.

Costs of Compliance

The FAA estimates that this AD affects 694 airplanes of U.S. registry. The FAA estimates the following costs to comply with this AD:

Estimated Costs for Required Actions per Seat
Action | Labor cost | Parts cost | Cost per product | Cost on U.S. operators
Identification, seat (retained actions from AD 2019-14-13) | 1 work-hour × $85 per hour = $85 | $0 | $85 | $117,980.
Detailed inspection, HMS (retained actions from AD 2019-14-13) | 1 work-hour × $85 per hour = $85 | 0 | $85 | Up to $117,980.
Checks, HMS (retained from AD 2019-14-13) | 2 work-hours × $85 per hour = $170, per check cycle | 0 | $170, per check cycle | Up to $235,960, per check cycle.

The FAA estimates the following costs to do any on-condition actions that will be required. The FAA has no way of determining the number of aircraft that might need these on-condition actions:

Estimated Costs of On-Condition Actions *
Action | Labor cost | Parts cost | Cost per product
Adjustment, control lever cable | 1 work-hour × $85 per hour = $85 | $0 | $85.
Overhaul, HMS | 11 work-hours × $85 per hour = $935 | Up to $5,824 | Up to $6,759.
Inspection of each seat's fore/aft and vertical manual control levers | 1 work-hour × $85 per hour = $85 per seat | $0 | $85 per seat.
Installation of serviceable seats | 1 work-hour × $85 per hour = $85 per seat | $0 | $85 per seat.
Clearing FOD | 1 work-hour × $85 per hour = $85 per seat | $0 | $85 per seat.
Replacement of the horizontal actuator | 1 work-hour × $85 per hour = $85 per actuator | $7,937 per actuator | $8,022 per actuator.
Operational test, adjusted control lever cable | 1 work-hour × $85 per hour = $85 per seat | $0 | $85 per seat.
* The estimated cost for tooling to align an affected seat for adjustment of the control lever cable is up to $46,064.

The FAA has received no definitive data that would enable the FAA to provide cost estimates for the optional terminating action for the repetitive checks specified in this AD.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2019-14-13, Amendment 39-19691 (84 FR 38855, August 8, 2019); and

b. Adding the following new AD:

2025-01-06 The Boeing Company: Amendment 39-22930; Docket No. FAA-2024-2136; Project Identifier AD-2023-00296-T.

(a) Effective Date

This airworthiness directive (AD) is effective March 11, 2025.

(b) Affected ADs

This AD replaces AD 2019-14-13, Amendment 39-19691 (84 FR 38855, August 8, 2019) (AD 2019-14-13).

(c) Applicability

(1) This AD applies to all The Boeing Company Model 767-200, -300, -300F, and -400ER series airplanes, certificated in any category.

(2) Installation of Supplemental Type Certificate (STC) ST01920SE does not affect the ability to accomplish the actions required by this AD. Therefore, for airplanes on which STC ST01920SE is installed, a “change in product” alternative method of compliance (AMOC) approval request is not necessary to comply with the requirements of 14 CFR 39.17.

(d) Subject

Air Transport Association (ATA) of America Code 25, Equipment/furnishings.

(e) Unsafe Condition

This AD was prompted by reports of uncommanded fore and aft movement of the Captain's and First Officer's seats. The FAA is issuing this AD to address uncommanded fore and aft movement of the Captain's and First Officer's seats. The unsafe condition, if not addressed, could result in an uncommanded fore or aft seat movement during a critical part of a flight, such as takeoff or landing, and could cause a flight control obstruction or unintended flight control input, which could result in the loss of the ability to control the airplane.

(f) Compliance

Comply with this AD within the compliance times specified, unless already done.

(g) Seat Part Number Identification and On-Condition Actions

Except as specified in paragraphs (i) and (j) of this AD: At the applicable time specified in the “Compliance,” paragraph of Boeing Special Attention Service Bulletin 767-25-0539, Revision 2, dated January 27, 2023, do an inspection to determine the part number, and serial number as applicable, of the Captain's and First Officer's seats, and all applicable on-condition actions, in accordance with the Accomplishment Instructions of Boeing Special Attention Service Bulletin 767-25-0539, Revision 2, dated January 27, 2023. A review of airplane maintenance records is acceptable in lieu of this inspection if the part number and serial number of the Captain's and First Officer's seats can be conclusively determined from that review.

(h) Detailed Inspection, and Repetitive Checks of Horizontal Movement System and On-Condition Actions

Except as specified by paragraphs (i) and (j) of this AD: At the applicable times specified in the “Compliance,” paragraph of Boeing Special Attention Bulletin 767-25-0549, Revision 2, dated January 27, 2023, do all applicable actions identified as “RC” (required for compliance) in, and in accordance with, the Accomplishment Instructions of Boeing Special Attention Bulletin 767-25-0549, Revision 2, dated January 27, 2023. Actions identified as terminating action in Boeing Special Attention Bulletin 767-25-0549, Revision 2, dated January 27, 2023, terminate the applicable required actions of this AD, provided the terminating action is done in accordance with the Accomplishment Instructions of Boeing Special Attention Service Bulletin 767-25-0549, Revision 2, dated January 27, 2023.

(i) Exceptions to Service Information Specifications

(1) Where the “Compliance” paragraph of Boeing Special Attention Bulletin 767-25-0549, Revision 2, dated January 27, 2023, refers to the original issue date of the service bulletin, this AD requires using September 12, 2019 (the effective date of AD 2019-14-13).

(2) Where the “Compliance” paragraph of Boeing Special Attention Bulletin 767-25-0549, Revision 2, dated January 27, 2023, refers to the Revision 2 date of the service bulletin, this AD requires using the effective date of this AD.

(3) Where the “Compliance” paragraph of Boeing Special Attention Service Bulletin 767-25-0539, Revision 2, dated January 27, 2023, refers to within 72 months after the original issue date of the service bulletin, this AD requires using within 36 months after September 12, 2019 (the effective date of AD 2019-14-13).

(4) Where the “Compliance” paragraph of Boeing Special Attention Bulletin 767-25-0539, Revision 2, dated January 27, 2023, refers to the Revision 2 date of the service bulletin, this AD requires using the effective date of this AD.

(j) Acceptable Conditions for Compliance

If the airplane records show that an Ipeco Captain's or First Officer's seat meets all criteria specified in any row in figure 1 to paragraph (j) of this AD, the actions specified in paragraphs (g) and (h) of this AD are not required for that seat.

BILLING CODE 4910-13-P

Figure 1 to Paragraph (j)—Alternative Acceptable Seats

BILLING CODE 4910-13-C

(k) Alternative Methods of Compliance (AMOCs)

(1) The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the attention of the person identified in paragraph (l) of this AD. Information may be emailed to: AMOC@faa.gov.

(2) Before using any approved AMOC, notify your appropriate principal inspector, or lacking a principal inspector, the manager of the responsible Flight Standards Office.

(3) An AMOC that provides an acceptable level of safety may be used for any repair, modification, or alteration required by this AD if it is approved by The Boeing Company Organization Designation Authorization (ODA) that has been authorized by the Manager, AIR-520, Continued Operational Safety Branch, FAA, to make those findings. To be approved, the repair method, modification deviation, or alteration deviation must meet the certification basis of the airplane, and the approval must specifically refer to this AD.

(4) AMOCs approved for AD 2019-14-13 are approved as AMOCs for the corresponding provisions of Boeing Special Attention Service Bulletin 767-25-0539, Revision 2, dated January 27, 2023, and Boeing Special Attention Service Bulletin 767-25-0549, Revision 2, dated January 27, 2023, that are required by paragraphs (g) and (h) of this AD.

(5) For service information that contains steps that are labeled as Required for Compliance (RC), the provisions of paragraphs (k)(5)(i) and (ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(l) Related Information

For more information about this AD, contact Courtney Tuck, Aviation Safety Engineer, FAA, 2200 South 216th Street, Des Moines, WA 98198; phone 206-231-3986; email Courtney.K.Tuck@faa.gov.

(m) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Boeing Special Attention Service Bulletin 767-25-0539, Revision 2, dated January 27, 2023.

(ii) Boeing Special Attention Service Bulletin 767-25-0549, Revision 2, dated January 27, 2023.

(3) For Boeing material identified in this AD, contact Boeing Commercial Airplanes, Attention: Contractual & Data Services (C&DS), 2600 Westminster Boulevard, MC 110-SK57, Seal Beach, CA 90740-5600; phone 562-797-1717; website myboeingfleet.com.

(4) You may view this material at the FAA, Airworthiness Products Section, Operational Safety Branch, 2200 South 216th Street, Des Moines, WA. For information on the availability of this material at the FAA, call 206-231-3195.

(5) You may view this material at the National Archives and Records Administration (NARA). For information on the availability of this material at NARA, visit www.archives.gov/federal-register/cfr/ibr-locations or email fr.inspection@nara.gov.

Issued on January 6, 2025.
Suzanne Masterson,
Deputy Director, Integrated Certificate Management Division, Aircraft Certification Service.

[FR Doc. 2025-02146 Filed 2-3-25; 8:45 am]

BILLING CODE 4910-13-P